ENVIRONMENTAL PROTECTION AGENCY

[EPA-HQ-OAR-2007-0563; FRL-10011-72-OMS]

Information Collection Request Submitted to OMB for Review and Approval; Comment Request; Volatile Organic Compound Emission Standards for Consumer Products (Renewal)

AGENCY: Environmental Protection Agency (EPA).

ACTION: Notice.

SUMMARY: The U.S. Environmental Protection Agency (EPA) has submitted an information collection request (ICR), National Volatile Organic Compound Emission Standards for Consumer Products (EPA ICR Number 1764.08, OMB Control Number 2060-0348) to the Office of Management and Budget (OMB) for review and approval in accordance with the Paperwork Reduction Act. This is a proposed extension of the Information Collection Request (ICR), which is currently approved through August 31, 2020. Public comments were previously requested via the Federal Register on December 2, 2019, during a 60-day comment period. No comments were received on that document. This notice allows for an additional 30 days for public comments. A fuller description of the ICR is given below, including its estimated burden and cost to the public. An agency may not conduct or sponsor and a person is not required to respond to a collection of information unless it displays a currently valid OMB control number.

DATES: Additional comments may be submitted on or before July 29, 2020.

ADDRESSES: Submit your comments, referencing Docket ID No. EPA-HQ-OAR-2007-0563, to the EPA online using https://www.regulations.gov/ (our preferred method), by email to a-and-r-docket@epa.gov, or by mail to EPA Docket Center, U.S. Environmental Protection Agency, Mail Code 28221T, 1200 Pennsylvania Ave. NW, Washington, DC 20460.

The EPA's policy is that all comments received will be included in the public docket without change, including any personal information provided, unless the comment includes profanity, threats, information claimed to be Confidential Business Information, or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Ms. Kaye Whitfield, Sector Policies and Programs Division (D243-04), Office of Air Quality Planning and Standards, Research Triangle Park, North Carolina 27711; telephone number: (919) 541-2509; fax number: (919) 541-4991; email address: Whitfield.kaye@epa.gov.

SUPPLEMENTARY INFORMATION: Supporting documents, which explain in detail the information that the EPA will be collecting, are available in the public docket for this ICR. The docket can be viewed online at https://www.regulations.gov/ or in person at the EPA Docket Center, WJC West Building, Room 3334, 1301 Constitution Ave. NW, Washington, DC. The telephone number for the EPA Docket Center is (202) 566-1744. For additional information about the EPA's public docket, visit https://www.epa.gov/dockets.

Abstract: The EPA is required under section 183(e) of the Clean Air Act (CAA) to regulate volatile organic compound (VOC) emissions from the use of consumer and commercial products. Pursuant to CAA section 183(e)(3), the EPA published a list of consumer and commercial products and a schedule for their regulation (60 FR 15264). The standards for consumer products are codified at 40 CFR part 59, subpart C. The information collection includes initial reports and periodic recordkeeping necessary for the EPA to ensure compliance with Federal standards for VOC in consumer products. Respondents are manufacturers, distributors, and importers of consumer products. All information submitted to the EPA for which a claim of confidentiality is made will be safeguarded according to the Agency policies set forth in 40 CFR part 2, subpart B, Confidentiality of Business Information. The reports required under the standards enable the EPA to identify all consumer products manufacturers, distributors, and importers in the United States and to determine which consumer products are subject to the standards.

Form Numbers: None.

Respondents/affected entities: Entities potentially affected by this action as respondents are manufacturers, distributors, and importers of consumer products.

Respondent's obligation to respond: Responses to the collection are mandatory under 40 CFR part 59, subpart C.

Estimated number of respondents: 300 (total).

Frequency of response: On occasion.

Total estimated burden: 16,126 hours (per year). Burden is defined at 5 CFR 1320.03(b).

Total estimated cost: $1,765,427 (per year), includes $0 annualized capital or operation and maintenance costs.

Changes in the estimates: There is no change in the burden estimate currently approved by OMB.

Courtney Kerwin,
Director, Regulatory Support Division.

[FR Doc. 2020-13928 Filed 6-26-20; 8:45 am]

BILLING CODE 6560-50-P